DEPARTMENT OF THE INTERIOR

National Park Service

Plan of Operations, Environmental Assessment, Padre Island National Seashore, Texas

AGENCY: National Park Service, Department of the Interior.

ACTION: Notice of Availability of a Plan of Operations, Environmental Assessment, and Floodplains and Wetlands Statement of Findings for a 30-day public review at Padre Island National Seashore.

SUMMARY: The National Park Service (NPS), in accordance with Section 9.52(b) of Title 36 of the Code of Federal Regulations, Executive Order 11988, Floodplain Management, and Executive Order 11990, Protection of Wetlands has received from BNP Petroleum Corporation a Plan of Operations for drilling and production of the Dunn-Peach No. 1 Well from a surface location 6.9 miles south along the Gulf beach, from the end of Park Road 22, within Padre Island National Seashore. Additionally, the NPS has prepared an Environmental Assessment and a Floodplains and Wetlands Statement of Findings for the site of the proposed well.

DATES: The above documents are available for public review and comment through December 19, 2003.

ADDRESSES: The Plan of Operations, Environmental Assessment, and Floodplain and Wetlands Statement of Findings are available for public review and comment in the Office of the Superintendent, Padre Island National Seashore, 20301 Park Road 22, Corpus Christi, Texas. Copies of the Plan of Operations are available, for a duplication fee, from the Superintendent, Padre Island National Seashore, PO Box 181300, Corpus Christi, Texas 78480-1300.

FOR FURTHER INFORMATION CONTACT: Ms. Arlene Wimer, Environmental Protection Specialist, Padre Island National Seashore, PO Box 181300, Corpus Christi, Texas 78480-1300, Telephone: 361-949-8173 x 224, e-mail at Arlene_Wimer@nps.gov.

SUPPLEMENTARY INFORMATION: If you wish to submit comments about this document within the 30 days; mail them to the post office address provided above, hand-deliver them to the park at the street address provided above, or electronically file them to the e-mail address provided above. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: September 25, 2003.
Michael D. Snyder,
Acting Director, Intermountain Region, National Park Service.

[FR Doc. 03-28844 Filed 11-18-03; 8:45 am]

BILLING CODE 4310-70-P